NUCLEAR REGULATORY ADMINISTRATION

Sunshine Act Meeting

AGENCY HOLDING THE MEETING: Nuclear Regulatory Commission.

DATE: Weeks of June 11,18, 25, July 2, 9, 16, 2001.

PLACE: Commissioners' Conference Room, 11555 Rockville Pike, Maryland.

STATUS: Public and Closed.

MATTERS TO BE CONSIDERED:

Week of June 11, 2001

Thursday, June 14, 2001

9:55 a.m; Affirmation Session (Public Meeting) (If needed)

10:00 a.m; Meeting with Nuclear Waste Technical Review Board (Public Meeting)

1:30 p.m; Briefing on License Renewal Program (Public Meeting) (Contact: David Solorio, 301-415-1973)

Week of June 18, 2001—Tentative

There are no meetings scheduled for the Week of June 18, 2001.

Week of June 25, 2001—Tentative

Wednesday, June 27, 2001

9:25 a.m; Affirmation Session (Public Meeting) (If needed)

Week of July 2, 2001—Tentative

There are no meetings scheduled for the Week of July 2, 2001.

Week of July 9, 2001—Tentative

Monday, July 9, 2001

1:25 p.m; Affirmation Session (Public Meeting) (If needed)

Week of July 16, 2001—Tentative

Thursday, July 19, 2001

9:25 a.m; Affirmation Session (Public Meeting) (If needed)

9:30 a.m; Briefing on Results of Agency Action Review Meeting—Reactors (Public Meeting) (Contact: Ron Frahm, 301-415-2986)

1:30 p.m; Briefing on Readiness for New Plant Applications and Construction (Public Meeting) (Contact: Nanette Gilles, 301-415-1180)

Friday, July 20, 2001

9:30 a.m; Briefing on Results of Reactor Oversight Process Initial Implementation (Public Meeting) (Contact: Tim Frye, 301-415-1287)

1:00 p.m; Briefing on Risk-Informing Special Treatment Requirements (Public Meeting) (Contact: John Nakoski, 302-415-1278)

* The schedule for Commission meeting is subject to change on short notice. To verify the status of meetings call (recording)—(301) 415-1292. Contact person for more information: David Louis Gameroni (301) 415-1651.

* * * * *

The NRC Commission Meeting Schedule can be found on the Internet at: http://www.nrc.gov/SECY/smj/schedule.htm

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 5, 2001.
David Louis Gamberoni,
Technical Coordinator, Office of the Secretary.

[FR Doc. 01-14594 Filed 6-6-01; 12:20 pm]

BILLING CODE 7590-01-M